DEPARTMENT OF COMMERCE

International Trade Administration

[A-570-893]

Certain Frozen Warmwater Shrimp From the People's Republic of China: Initiation of New Shipper Review

AGENCY: Import Administration, International Trade Administration, Department of Commerce.

EFFECTIVE DATES: October 7, 2005.

SUMMARY: The Department of Commerce (the “Department”) has determined that a request for a new shipper review of the antidumping duty order on certain frozen warmwater shrimp from the People's Republic of China (“PRC”), received before August 31, 2005,¹ meets the statutory and regulatory requirements for initiation. The period of review (“POR”) of this new shipper review is July 16, 2004, through July 31, 2005.

¹ The Order for certain frozen warmwater shrimp from the PRC was published on February 1, 2005. See Notice of Amended Final Determination of Sales at Less Than Fair Value and Antidumping Duty Order: Certain Frozen Warmwater Shrimp From the People's Republic of China, 70 FR 05149 (February 1, 2005) (“PRC Shrimp Order”). Therefore, a request for a new shipper review based on the semi-annual anniversary month, August, was due to the Department by the final day of August 2005. See 19 CFR 351.214(d)(1).

FOR FURTHER INFORMATION CONTACT: Paul Walker at (202) 482-0413, AD/CVD Operations, Office 9, Import Administration, International Trade Administration, U.S. Department of Commerce, 14th Street and Constitution Avenue, NW., Washington, DC 20230.

SUPPLEMENTARY INFORMATION:

Background

The notice announcing the antidumping duty order on certain frozen warmwater shrimp from the PRC was published on February 1, 2005. See PRC Shrimp Order. On August 26, 2005, we received a new shipper review request from Zhanjiang Regal Integrated Marine resources Co., Ltd. (“Regal”). On September 16, 2005, we requested that Regal correct certain filing deficiencies. See the Department's letter dated September 16, 2005. On September 20, 2005, Regal resubmitted their new shipper request. Regal certified that they are both the producer and exporter of the subject merchandise upon which the request for a new shipper review is based.

Pursuant to section 751(a)(2)(B)(i)(I) of the Tariff act of 1930 (“the Act”) and 19 CFR 351.214(b)(2)(i), Regal certified that it did not export frozen warmwater shrimp to the United States during the period of investigation (“POI”). In addition, pursuant to section 751(a)(2)(B)(i)(II) of the Act and 19 CFR 351.214(b)(2)(iii)(A), Regal certified that, since the initiation of the investigation, it has never been affiliated with any exporter or producer who exported frozen warmwater shrimp to the United States during the POI, including those not individually examined during the investigation. As required by 19 CFR 351.214(b)(2)(iii)(B), Regal also certified that their export activities were not controlled by the central government of the PRC.

In addition to the certifications described above, Regal submitted documentation establishing the following: (1) The date on which they first shipped frozen warmwater shrimp for export to the United States and the date on which the frozen warmwater shrimp was first entered, or withdrawn from warehouse, for consumption; (2) the volume of their first shipment,² and (3) the date of their first sale to an unaffiliated customer in the United States.

² Regal made no subsequent shipments to the United States, which the Department confirmed with U.S. Customs and Border Protection.

The Department conducted customs database queries to confirm the Regal's shipment of subject merchandise had entered the United States for consumption and had been suspended for antidumping duties.

Initiation of New Shipper Reviews

Pursuant to section 751(a)(2)(B) of the Act and 19 CFR 351.214(d)(1), we find that the requested submitted by Regal meets the threshold requirements for initiation of a new shipper review for shipments of frozen warmwater shrimp from the PRC produced and exported by Regal.

The POR is July 16, 2004, through July 21, 2005, See 19 CFR 351.214(g)(1)(i)(B). We intend to issue preliminary results of this review no later than 180 days from the date of initiation, and final results of this review no later than 270 days from the date of initiation. See section 751(a)(2)(B)(iv) of the Act.

Because Regal has certified that they produced and exported the frozen warmwater shrimp on which they based their request for a new shipper review, we will instruct U.S.Customs and Border Protection to allow, at the option of the importer, the posting of a bond or security in lieu of cash deposit from each entry of frozen warmwater shrimp that was both produced and exported by Regal until the completion of a new shipper review, pursuant to section 751(a)(2)(B)(iii) of the Act.

Interested parties that need access to proprietary information in this new shipper review should submit applications for disclosure under administrative protective order in accordance with 19 CFR 351.305 and 351.306.

This initiation and notice are in accordance with section 751(A)(2)(B) of the Act and 19 CFR 351.214 and 351.221(c)(1)(i).

Dated: September 30, 2005.
Barbara E. Tillman,
Acting Assistance Secretary for Import Administration.

[FR Doc. 05-20286 Filed 10-6-05; 8:45 am]

BILLING CODE 3510-05-M